DEPARTMENT OF ENERGY

National Energy Technology Laboratory; Notice of availability of a Financial Assistance Solicitation

AGENCY: National Energy Technology Laboratory, Department of Energy (DOE).

ACTION: Notice of Availability of a Financial Assistance Solicitation.

SUMMARY: Notice is hereby given of the intent to issue Financial Assistance Solicitation No. DE-PS26-03NT41775 entitled “Drilling, Completion, and Stimulation (DCS).” This solicitation is being issued to develop new drilling, completion, and stimulation technologies that will aid the nation in meeting the increasing natural gas demands of the future.

DATES: The solicitation will be available on the “Industry Interactive Procurement System” (IIPS) webpage located at http://e-center.doe.gov on or about March 28, 2003. Applicants can obtain access to the solicitation from the address above or through DOE/NETL's Web site at http://www.netl.doe.gov/business.

ADDRESSES: See FOR FURTHER INFORMATION CONTACT caption.

FOR FURTHER INFORMATION CONTACT: Ms. Deborah J. Boggs, Contract Specialist, U.S. Department of Energy, National Energy Technology Laboratory, 3610 Collins Ferry Road, E-mail Address: dboggs@netl.doe.gov, Telephone Number: 304-285-4473.

SUPPLEMENTARY INFORMATION: The “Drilling, Completion, and Stimulation Solicitation” supports the Strategic Center for Natural Gas 2020 Vision of the U.S. public enjoying benefits (affordable supply, reliable delivery, and environmental protection) from an increase in gas use. The demand for natural gas is expected to grow at a rate of 2.1 percent per year between 1999 and 2020, with the total annual gas consumption projected to increase from 22 tcf in 1999 to 34 tcf in 2020. This increase will put a great strain on the natural gas industry as most of the conventional reservoirs have already been discovered. Therefore, the gas needed to meet the increasing demands will have to come from unconventional sources, which are known to contain vast quantities of gas across large areas and throughout thick columns of strata in many of the nation's basins.

Past assessments of these unconventional resources show that thousands of trillion cubic feet of gas exists in place. However, due to the complexity, depth and lower-quality of these reservoirs, only a small percentage of this gas can be produced economically. Today's operators target areas of high natural fracture density because the extensive fracture network increases the drainage area of wells and thereby, the ultimate recovery of gas. But the majority of wells completed in unconventional reservoirs are sub-economic because a well-connected natural fracture system is the exception rather than the rule. Thus, technologies are needed to both reduce the costs of drilling, completion, and stimulation, and improve the recovery efficiency.

Once released, the solicitation will be available for downloading from the IIPS Internet page. At this Internet site you will also be able to register with IIPS, enabling you to submit an application. If you need technical assistance in registering or for any other IIPS function, call the IIPS Help Desk at (800) 683-0751 or E-mail the Help Desk personnel at IIPS_HelpDesk@e-center.doe.gov. The solicitation will only be made available in IIPS, no hard (paper) copies of the solicitation and related documents will be made available. Telephone requests, written requests, E-mail requests, or facsimile requests for a copy of the solicitation package will not be accepted and/or honored. Applications must be prepared and submitted in accordance with the instructions and forms contained in the solicitation. The actual solicitation document will allow for requests for explanation and/or interpretation.

Issued in Morgantown, WV on March 20, 2003.
Dale A. Siciliano,
Director, Acquisition and Assistance Division.

[FR Doc. 03-7612 Filed 3-28-03; 8:45 am]

BILLING CODE 6450-01-P